DEPARTMENT OF THE INTERIOR

Fish and Wildlife Service

Notice of Availability, Draft Restoration Plan and Environmental Action Statement

AGENCY: Fish and Wildlife Service, Interior.

SUMMARY: The U.S. Fish and Wildlife Service (Service), on behalf of the Department of the Interior (DOI), as the natural resource trustee, announces the release for public review of the Draft Natural Resource Damage Restoration Plan and Environmental Action Statement (RP/EAS) for the Lakepoint Wetlands Site in Tooele County, Utah. The Draft RP/EAS presents a preferred alternative that compensates for impacts to natural resources caused by the release of hazardous substances from the Kennecott Utah Copper Corporation (KUCC) North Zone Wetlands National Priorities List Superfund Site.

DATES: Written comments must be submitted on or before April 2, 2008.

ADDRESSES: Copies of the RP/EAS are available for review during office hours at U.S. Fish and Wildlife Service, Utah Ecological Services Field Office, 2369 West Orton Circle, Suite 50, West Valley City, Utah 84119, and online at http://mountain-prairie.fws.gov/nrda/LakepointWetlands. Requests for copies of the RP/EAS may be made to the same address. Interested members of the public are invited to review and comment on the RP/EAS. Written comments will be considered and addressed in the final RP/EAS at the conclusion of the 30-day public comment period. Written comments or materials regarding the RP/EAS should be sent to the Utah Ecological Services Field Office at the address given above.

FOR FURTHER INFORMATION CONTACT: Chris Cline, U.S. Fish and Wildlife Service, Utah Ecological Services Field Office, 2369 West Orton Circle, Suite 50, West Valley City, Utah 84119. Interested parties also may call 801-975-3330 or e-mail Chris_Cline@fws.gov for further information.

SUPPLEMENTARY INFORMATION:

Background

In December 2007, the DOI, acting as natural resource Trustee, reached a natural resource damages settlement for natural resource injuries associated with the discharge of hazardous substances at KUCC's North Zone Wetlands National Priorities List site, located on the south shore of the Great Salt Lake in Salt Lake County, Utah. The discharge of hazardous substances and the remedial activities injured Service trust resources (migratory birds). The terms of the natural resource damages settlement compensate for injuries at the North Zone Wetlands site by directing the restoration of comparable natural resources at the Lakepoint Wetlands Site in Tooele County, Utah.

The RP/EAS is being released in accordance with the Comprehensive Environmental Response, Compensation, and Liability Act of 1980 as amended, commonly known as Superfund, (42 U.S.C. 9601 et seq.), the Natural Resource Damage Assessment Regulations found at 43 CFR, part 11, and the National Environmental Policy Act. It is intended to describe and evaluate the Trustee's proposal to restore natural resources injured by the release of hazardous materials at the North Zone Wetlands National Priorities List Site.

The RP/EAS describes a habitat restoration alternative agreed to in the natural resource damages settlement between KUCC and the Trustee, based on evaluation of several restoration alternatives. The preferred alternative consists of the restoration of a total of 249 hectares (616 acres) of land at the Lakepoint Wetland site through acquisition and preservation into perpetuity of land and water rights, habitat and waterway improvement, and other actions described within the RP/EAS. These actions will compensate for injuries to natural resources, including migratory birds, and migratory bird habitat.

Author

The primary author of this notice is Chris Cline, U.S. Fish and Wildlife Service, Utah Ecological Services Field Office, 2369 West Orton Circle, Suite 50, West Valley City, Utah 84119.

Authority

The authority for this action is the Comprehensive Environmental Response, Compensation, and Liability Act of 1980 as amended, commonly known as Superfund, (42 U.S.C. 9601 et seq.), and the Natural Resource Damage Assessment Regulations found at 43 CFR part 11.

Dated: December 21, 2007.
Gary G. Mowad,
Acting Deputy Regional Director, Denver, Colorado.

[FR Doc. E8-3987 Filed 2-29-08; 8:45 am]

BILLING CODE 4310-55-P